DEPARTMENT OF AGRICULTURE

Animal and Plant Health Inspection Service

9 CFR Part 93

[Docket No. APHIS-2007-0095]

RIN 0579-AC63

Importation of Cattle From Mexico; Addition of Port at San Luis, AZ; Correction

AGENCY: Animal and Plant Health Inspection Service, USDA.

ACTION: Final rule; correction.

SUMMARY: We are correcting an error in the amendatory language in our final rule that added the port of San Luis, AZ, as a port through which cattle that have been infested with fever ticks or exposed to fever ticks or tick-borne diseases may be imported into the United States and that removed provisions that limit the admission of cattle that have been infested with fever ticks or exposed to fever ticks or tick-borne diseases to the State of Texas. The final rule was published in the Federal Register on January 2, 2009.

DATES: Effective Date: The effective date of this correction to § 93.427(b)(2) introductory text is delayed indefinitely. This delay is consistent with the delayed effective date of the amendment to § 93.427(b)(2) introductory text published in the Federal Register on January 2, 2009, at 74 FR 5-6. APHIS will publish a document announcing an effective date for this correction in the Federal Register.

FOR FURTHER INFORMATION CONTACT: Dr. Betzaida Lopez, Staff Veterinarian, National Center for Import and Export, VS, APHIS, 4700 River Road, Unit 39, Riverdale, MD 20737-1231; (301) 734-8364.

SUPPLEMENTARY INFORMATION:

In a final rule published in the Federal Register on January 2, 2009 (74 FR 1-6, Docket No. APHIS-2007-0095), we amended the regulations regarding the importation of cattle from Mexico by adding San Luis, AZ, as a port through which cattle that have been infested with fever ticks or exposed to fever ticks or tick-borne diseases may be imported into the United States. We also amended the regulations to remove provisions that limit the admission of cattle that have been infested with fever ticks or exposed to fever ticks or tick-borne diseases to the State of Texas. In amendatory instruction 3, it was our intent to further amend the introductory text of § 93.427(b)(2) to add the port of San Luis. However, we inadvertently omitted San Luis, AZ, from the text that followed. This document corrects that error.

After port facilities at San Luis, AZ, are constructed and approved by the Animal and Plant Health Inspection Service (APHIS), APHIS will publish a document announcing an effective date for this correction in the Federal Register.

Correction

In FR Doc. E8-31212, published on January 2, 2009 (74 FR 1), under amendatory instruction 3 on page 5, third column, and page 6, first column, § 93.427(b)(2) introductory text is corrected to read as follows:

§ 93.427 Cattle from Mexico.

* * * * *

(b) * * *

(2) Cattle that have been exposed to splenetic, southern, or tick fever, or that have been infested with or exposed to fever ticks, may be imported from Mexico for admission into the United States, except into areas of Texas quarantined because of said disease or tick infestation as specified in § 72.5 of this chapter, at one of the land border ports in Texas listed in § 93.403(c), the port of Santa Teresa, NM, or the port of San Luis, AZ, provided that the following conditions are strictly observed and complied with:

* * * * *

Done in Washington, DC, this 6th day of May 2009.
Kevin Shea,
Acting Administrator, Animal and Plant Health Inspection Service.

[FR Doc. E9-11059 Filed 5-11-09; 8:45 am]

BILLING CODE 3410-34-P